NUCLEAR REGULATORY COMMISSION

[Docket Nos. 50-275 and 50-323; NRC-2009-0552]

Pacific Gas & Electric Company; Diablo Canyon Power Plant, Unit Nos. 1 and 2; Withdrawal of License Renewal Application

AGENCY: Nuclear Regulatory Commission.

ACTION: License renewal application; withdrawal by applicant.

SUMMARY: The U.S. Nuclear Regulatory Commission (NRC) has granted the request of Pacific Gas & Electric Company (PG&E or the licensee) to withdraw its application, and all associated correspondence and commitments, dated November 23, 2009, for license renewal of Diablo Canyon Power Plant (DCPP), Unit Nos. 1 and 2 (Operating License Nos. DPR-80 and DPR-82, respectively). The license renewal application had requested 20 additional years of operation for DCPP, Unit Nos. 1 and 2. By withdrawing the license renewal application, the current operating licenses will expire on November 2, 2024, for DCPP Unit No. 1, and on August 26, 2025, for Unit No. 2.

DATES: The effective date of the withdrawal of the license renewal application is April 23, 2018.

ADDRESSES: Please refer to Docket ID NRC-2009-0052 when contacting the NRC about the availability of information regarding this document. You may obtain publicly-available information related to this document using any of the following methods:

• Federal Rulemaking Website: Go to http://www.regulations.gov and search for Docket ID NRC-2009-0052. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Elaine Keegan, Office of Nuclear Reactor Regulation, U.S. Nuclear Regulatory Commission, Washington, DC 20555-0001; telephone: 301-415-8517; email: Elaine.Keegan@nrc.gov.

SUPPLEMENTARY INFORMATION: The licensee submitted its application for license renewal for DCPP, Unit Nos. 1 and 2, on November 23, 2009 (ADAMS Accession No. ML093340086). DCPP, Unit Nos. 1 and 2, are located in San Luis Obispo County, California, approximately 7 miles northwest of Avila Beach and 12 miles west-southwest of San Luis Obispo. On April 10, 2011, PG&E requested the deferral of a final decision on the license renewal application until seismic studies and a report addressing the results of those studies were completed (ADAMS Accession No. ML111010592).

The NRC staff issued a safety evaluation report on June 2, 2011 (ADAMS Accession No. ML11153A103), that documented the technical safety review of DCPP, Unit Nos. 1 and 2. Appendix A of the safety evaluation report listed PG&E's commitments for renewal of the operating licenses.

The NRC staff resumed the review of the license renewal application after PG&E submitted the annual update for the application on December 22, 2014 (ADAMS Package Accession No. ML14364A259). Subsequently, on June 21, 2016, PG&E requested that the NRC staff suspend the license renewal review (ADAMS Accession No. ML16175A561). At that time, PG&E also requested approval from the California Public Utilities Commission not to proceed with license renewal. The NRC staff suspended the license renewal review in July 2016. On January 11, 2018, the California Public Utilities Commission approved PG&E's proposal to close DCPP, Unit Nos. 1 and 2, when its current licenses expire. By letter dated March 7, 2018, PG&E requested withdrawal of its license renewal application, including all associated correspondence and commitments, for DCPP, Unit Nos. 1 and 2 (ADAMS Accession No. ML18066A937).

Pursuant to the requirements in part 2 of title 10 of the Code of Federal Regulations, the Commission grants PG&E's request to withdraw DCPP, Unit Nos. 1 and 2, license renewal application.

Dated at Rockville, Maryland, this 17th day of April 2018.
For the Nuclear Regulatory Commission.
Eric R. Oesterle,
Chief, License Renewal Project Branch, Division of Materials and License Renewal, Office of Nuclear Reactor Regulation.

[FR Doc. 2018-08366 Filed 4-20-18; 8:45 am]

BILLING CODE 7590-01-P